POSTAL REGULATORY COMMISSION

[Docket No. CP2013-15; Order No. 1779]

New Postal Product

AGENCY: Postal Regulatory Commission.

ACTION: Notice.

SUMMARY: The Commission is noticing a recent Postal Service filing concerning the amendment to Priority Mail Contract 48 negotiated service agreement. This notice informs the public of the filing, invites public comment, and takes other administrative steps.

DATES: Comments are due: July 23, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filing

III. Ordering Paragraphs

I. Introduction

On July 12, 2013, the Postal Service filed notice that it has agreed to an amendment to Priority Mail Contract 48.¹ The Notice includes a redacted version of the amendment to Priority Mail Contract 48 (Amendment) and the certified statement and supporting financial information required by 39 CFR 3015.5(c) relating to the change in prices.

¹ Notice of United States Postal Service of Change in Prices Pursuant to Amendment to Priority Mail Contract 48, July 12, 2013 (Notice).

The Amendment changes the prices that apply to packages sent under Priority Mail Contract 48 as well as the parameters for packages considered “Contract Packages” under the contract. Notice, Attachment A at 1. It is scheduled to take effect one business day after the Commission completes its review of the Amendment. Id.

The Postal Service's Notice contained the Amendment as Attachment A, the certified statement as Attachment B, and sought to incorporate by reference the original application for non-public treatment in this docket. Notice at 1.

In the certified statement required by 39 CFR 3015.5, Steven R. Phelps, Manager, Regulatory Reporting and Cost Analysis, Finance Department, states that the amended prices and terms are consistent with Governors Decision No. 11-6 and 39 U.S.C. 3633(a) Id., Attachment B. He concludes that the contract is expected to cover its attributable costs and will not result in the subsidization of competitive products by market dominant products. Id.

II. Notice of Filing

Interested persons may submit comments on whether the changes presented in the Postal Service's Notice and Supplement are consistent with the policies of 39 U.S.C. 3632, 3633, or 3642, 39 CFR part 3015, and 39 CFR part 3020 subpart B. Comments are due no later than July 23, 2013. The public portions of these filings can be accessed via the Commission's Web site (www.prc.gov). Information on how to obtain access to non-public material appears at 39 CFR 3007.40.

James F. Callow will continue to serve as the Public Representative in this proceeding.

III. Ordering Paragraphs

It is ordered:

1. The Commission reopens Docket No. CP2013-15 for consideration of matters raised by the Postal Service's Notice.

2. Pursuant to 39 U.S.C. 505, James F. Callow will continue to serve as an officer of the Commission (Public Representative) to represent the interests of the general public in this proceeding.

3. Comments are due no later than July 23, 2013.

4. The Secretary shall arrange for publication of this order in the Federal Register.

By the Commission.
Shoshana M. Grove,
Secretary.

[FR Doc. 2013-17371 Filed 7-18-13; 8:45 am]

BILLING CODE 7710-FW-P